DEPARTMENT OF JUSTICE

Notice of Lodging of Consent Decree Under the Clean Water Act

Notice is hereby given that on August 24, 2009, a proposed Consent Decree in United States v. Ameripride Services, Inc., Civil Action No. 3:09-cv-1333 (WWE), was lodged with the United States District Court for the District of Connecticut.

In this action, the United States seeks, inter alia, civil penalties and injunctive relief from Ameripride for alleged violations under the Clean Water Act, 33 U.S.C. §§ 1319(b) and (d), at its Hartford, Connecticut laundry facility. The complaint in this matter alleges that Ameripride violated Federal pretreatment standards and State permit limitations in relation to discharges from the facility which contained excess pH, oil/grease and metals. The Consent Decree requires Ameripride, among other things, to pay a civil penalty of $525,000 and submit periodic reports relating to its future compliance with the Act.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Ameripride Services, Inc., D.J. Ref. 90-5-1-1-09559.

The Consent Decree may be examined at the Office of the United States Attorney, District of Connecticut, Connecticut Financial Center, 157 Church Street, Floor 23, New Haven, Connecticut 06510. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.50 (25 cents per page reproduction costs of Consent Decree and Appendices) payable to the U.S. Treasury or, if by e-mail or fax, forward a check in that amount to the Consent Decree Library at the stated address.

Maureen Katz,
Assistant Chief, Environmental Enforcement Section, Environment and Natural Resources Division.

[FR Doc. E9-20715 Filed 8-26-09; 8:45 am]

BILLING CODE 4410-15-P